DEPARTMENT OF THE INTERIOR

National Park Service

Notice of Intent To Repatriate Cultural Items: Thomas Burke Memorial Washington State Museum, University of Washington, Seattle, WA

AGENCY: National Park Service, Interior.

ACTION: Notice.

Notice is here given in accordance with the Native American Graves Protection and Repatriation Act (NAGPRA), 25 U.S.C. 3005, of the intent to repatriate cultural items in the control the Thomas Burke Memorial Washington State Museum (Burke Museum), University of Washington, Seattle, WA, that meet the definition of “unassociated funerary objects” under 25 U.S.C. 3001.

This notice is published as part of the National Park Service's administrative responsibilities under NAGPRA, 25 U.S.C. 3003 (d)(3). The determinations in this notice are the sole responsibility of the museum, institution, or Federal agency that has control of the cultural items. The National Park Service is not responsible for the determinations in this notice.

Between the 1950s and 2002, a cultural item was removed from an unspecified location in the Columbia River area in Washington. The cultural item was collected by Ms. Rosemary Horwood through purchase and donated to the Burke Museum in 2004 (Burke Accn. #2004-72). No human remains are present. The one unassociated funerary object is a necklace of copper beads.

Exact provenience is unknown; however, the cultural item is consistent with cultural items typically found in the context with burials in eastern Washington.

In 1959-1960, 15 cultural items were removed from the north bank of the Snake River, approximately five to six miles down river from the mouth of the Palouse River in Franklin County, WA, by Dr. Harold Bergen and Mrs. Marjory Bergen. The Bergens designated this site #14 or the “Pipe Site.” The cultural items were donated to the Burke Museum in 1989 (Burke Accn. #1989-57). The 15 unassociated funerary objects are 1 groundstone tool, 1 core, 1 stone pendant, 1 hammer stone, 1 modified stone, 1 stone paint pot, 1 pipe, 4 points, 3 scrapers, and 1 bag containing over 200 seeds.

The burial pattern and unassociated funerary objects are consistent with Native American Plateau customs. The 1963 Indian Claims Commission decision indicates that this area is within the Palouse aboriginal territory. Early and late ethnographic documentation indicates that the present-day location of the Snake River in Franklin County, WA is within an overlapping aboriginal territory of the Cayuse, Palouse, Yakama, and Walla Walla (Daugherty 1973, Hale 1841, Mooney 1896, Ray 1936, Spier 1936, Sprague 1998, Stern 1998) whose descendants are members of the Confederated Tribes and Bands of the Yakama Nation, Washington; Confederated Tribes of the Colville Reservation, Washington; Confederated Tribes of the Umatilla Reservation, Oregon; Confederated Tribes of the Warm Springs Reservation of Oregon; Nez Perce Tribe of Idaho; and Wanapum Band, a non-federally recognized Indian group. Information provided by the tribes listed above indicates that the aboriginal ancestors occupying this area were highly mobile and traveled the landscape for gathering resources as well as trade, and are all part of the more broadly defined Plateau cultural community.

Between the 1890s and early 1900s, 18 cultural items were removed from the “Plateau area” by Dr. Robert E. Stewart and purchased by the Burke Museum in 1905 (Burke Accn. #40). The “Plateau area” is a broadly defined cultural area. No human remains are present. The 18 unassociated funerary objects are 4 metal pendants, 7 metal bells, 1 bunch of thimbles and beads strung together, 5 metal bracelets, and 1 brass ornament.

Between 1889 and 1902, 118 cultural items were removed from Celilo Island, Klickitat County, WA, by Dr. Stewart and purchased by the Burke Museum in 1905 (Burke Accn. #40). No human remains are present. The 118 unassociated funerary objects are 3 atlatl weights, 2 axe heads, 1 groundstone ball, 8 stone beads, 6 stone carvings, 1 metal club, 6 grooved abraders, 19 groundstone tools, 2 knives, 1 maul, 1 metal spear point, 1 mortars, 1 net weight, 17 paint dishes or mortars, 19 stone pendants, 3 pestles, 6 pipes, 2 pistol barrels, 2 points, 1 stone sculpture, 1 metal spear, 2 metal spikes,12 stone war club heads, and 1 metal chisel.

Between 1890 and 1895, four cultural items were removed near Goldendale in Klickitat County, WA, by Dr. Stewart and donated to the Burke Museum in 1905 (Burke Accn. #40). No human remains are present. The four unassociated funerary objects are one stone sculpture, one metal axe head, one pistol barrel, and one gaming piece.

Between 1896 and 1902, eight cultural items were removed from Memaloose Island, Klickitat County, WA. The objects were removed from a grave and purchased by Dr. Stewart. The Burke Museum purchased the unassociated funerary objects from Dr. Stewart in 1905 (Burke Accn. #40). No human remains are present. The eight unassociated funerary objects are two metal axe heads, one knife, one metal point, one metal tool, one metal spear, one metal spike, and one metal war club.

Between 1896 and 1902, 60 cultural items were removed from an unspecified location in the Chamberlain Flats area in Klickitat County, WA, by Dr. Stewart and purchased by the Burke Museum in 1905 (Burke Accn. #40). No human remains are present. The 60 unassociated funerary objects are 1 metal axe head, 4 chipped stone tools, 1 carved stone effigy figure, 9 mauls, 2 bone tools with stone fragment, 1 antler tool with stone fragment, 4 groundstone tools, 1 moccasin last, 10 mortars, 4 paint dishes/mortars, 9 pestles, 4 pipes, 1 pistol barrel, 1 metal point, 1 stone sculpture, 6 stone sinkers, and 1 metal spear.

Museum documentation indicates that Dr. Stewart collected from Native American graves at the five sites described above. Exact provenience of each cultural item is unknown, however, Dr. Stewart primarily collected in Klickitat County, WA. The cultural items have been determined to be unassociated funerary objects based on the fact that these sites were described by Dr. Stewart as “burial ground.” The cultural items are also consistent with funerary objects typically found in the context with burials in eastern Washington.

In 1925, one cultural item was removed from a cremation pit by an unknown individual on an island in the Columbia River in Klickitat or Skamania County, WA. The cultural item is a metal lid, which was donated by Mrs. Irene A. Walker to the Burke Museum in 1963 (Burke Accn. #1963-139). A note found with the lid indicates that the island was located near the Bridge of Gods. No human remains are present.

Between 1950 and 1960, 57 cultural items were removed from the “Klickitat Cremation Pit” east of Little and Big Klickitat Rivers in Klickitat County, WA, by Dr. Bergen. Dr. Bergen designated the location as Site #22 and donated the cultural items to the Burke Museum in 1989 (Burke Accn. #1989-57). No human remains are present. The 57 unassociated funerary objects are 15 glass beads, 3 chipped stone tools, 3 groundstone club fragments, 1 stone drill, 1 grooved abrader, 1 groundstone tool, 1 modified bone, 1 paint mortar, 4 fragments of a paint mortar, 2 turquoise pendants, 1 pestle fragment, 3 pipe fragments, 11 chipped stone points, 1 petrified wood point, 7 pieces of red ochre, 1 scraper, and 1 unmodified dentalium shell.

Between 1950 and 1960, 11 cultural items were removed from Spedis Valley, designated as Site #19, in Klickitat County, WA, by Dr. Bergen and donated to the Burke Museum in 1989 (Burke Accn. #1989-57). No human remains are present. The 11 unassociated funerary objects are 2 basketry fragments, 1 decorated lead piece, 1 decorated metal fragment, 1 pipe bowl, 1 point, 2 unmodified dentalium shells, 1 perforated olivella shell, 1 strung abalone shell, and 1 strung copper ore fragment.

Between 1950 and 1960, 8,157 cultural items were removed from the Klickitat Ridge, designated as Site #26, Klickitat County, WA, by Dr. Bergen and donated to the Burke Museum in 1989 (Burke Accn. #1989-57). No human remains are present. The 8,157 unassociated funerary objects are 1 awl; 3 bells (2 with fabric attached); 8,094 beads (shell, dentalium, glass, and copper ore); 10 copper bracelets; 2 coin pendants; 2 flakes; 1 gorget; 3 iron spikes; 1 modified shell fragment; 2 net weights; 2 metal pendants; 13 copper pendants, gorgets or armor fragments; 1 shell pendant; 1 carved bone ring fragment; 4 copper ring fragments; 5 clay buttons; 2 shell buttons; 4 leather strips with copper tacks attached; and 6 thimbles.

Between 1950 and 1960, 25 cultural items were removed from the Spedis Valley Cremation Pit Site, designated as Site #21, Klickitat County, WA, by Dr. Bergen and donated to the Burke Museum in 1989 (Burke Accn. #1989-57). No human remains are present. The 25 unassociated funerary objects are 4 abraders, 1 adze blade, 2 antler tools, 1 copper ore fragment, 2 stone discoids, 1 bone tool fragment, 2 groundstone tool fragments (possibly adze fragments), 3 groundstone tool fragments (possibly club fragments), 1 net weight, 2 bone pendants, 1 pipe stem, 4 points, and 1 red ochre piece.

In 1953, three cultural items were removed from the cliffs above Wakemap Mound in Klickitat County, WA, by Mr. Warren Caldwell and donated to the Burke Museum in 1953 (Burke Accn. #3877). No human remains are present. The three unassociated funerary objects are cradle boards.

Between 1955 and 1958, 1,626 cultural items were removed from an eroded campsite along the river banks from the Fountain Bar Site, designated as Site #15, Klickitat County, WA, by Dr. Bergen and donated to the Burke Museum in 1989 (Burke Accn. #1989-57). No human remains are present. The 1,626 unassociated funerary objects are 1,609 shell beads and shell fragments (dentalium, oyster, and shell disc beads); 5 mammal bone fragments; 11 chipped stone points; and 1 unmodified stone.

Between 1956 and 1958, 66 cultural items were removed from south of Alderdale, designated as Site #1, Klickitat County, WA, by Dr. Bergen and donated to the Burke Museum in 1989 (Burke Accn. #1989-57). No human remains are present. The 66 unassociated funerary objects are 56 glass beads, 5 copper tubes, 3 dentalium (plus small fragments), 1 stone pendant, and 1 modified ground stone.

In 1956, four cultural items were removed from the cliffs above Wakemap Mound, Klickitat County, WA, by Mr. Robert Ferris and donated to the Burke Museum in 1956 (Burke Accn. #4112). No human remains are present. The four unassociated funerary objects are one cradle board and three cradle poles.

In 1957, 25 cultural items were removed from the Maybe Site, designated as Site #11, near the Dalles Dam, Klickitat County, WA, by Dr. Bergen and donated to the Burke Museum in 1989 (Burke Accn. #1989-57). No human remains are present. The 25 unassociated funerary objects are 1 abrader, 2 atlatl weights, 3 groundstone tools, 3 mauls, 1 mortar, 1 pile driver, 13 points, and 1 net weight.

In 1964, 169 cultural items were removed from the Obie Site #2, also designated as Site #45, near the Dalles Dam, Klickitat County, WA, by Dr. Bergen and donated to the Burke Museum in 1989 (Burke Accn. #1989-57). No human remains are present. The 169 unassociated funerary objects are 3 abraders, 4 antler wedges, 11 atlatl weights, 1 awl, 9 stone beads, 2 pieces of graphite, 15 chipped stone tools, 7 choppers, 2 discoids, 6 drills, 1 glass fragment, 1 graver, 13 groundstone tools, 2 hammerstones, 1 leather fragment, 4 mauls, 1 mortar, 2 nails, 2 copper ore fragments, 1 iron tube, 65 points, 1 piece of red ochre, 1 piece of yellow ochre, 9 scrapers, 1 large stone bead, and 4 utilized flakes.

Between 1955 and 1957, 361 cultural items were removed from the Colwash Valley and Lois/Over Sites (45-KL-27) in Klickitat County, WA, by a University of Washington Field Party led by Mr. Robert B. Butler. The cultural items were transferred to the Burke Museum by Mr. Butler and formerly accessioned in 1966 (Burke Accn. #1966-100). No human remains are present. The 361 unassociated funerary objects are 3 incised beads, 1 pottery bead, 119 lots of bone clubs and club fragments (includes refitted fragments), 2 pieces of copper ore, 1 bone harpoon, 1 maul, 1 piece of ochre, 4 lots of modified tooth or bone fragments, 3 mortars, 1 net weight, 45 pipes, 10 stone points, 164 lots of worked bone fragments, 2 pottery fragments, 1 ground shell fragment, and 3 utilized flakes.

Museum documentation indicates that the cultural items from the twelve sites described above were found in connection with burials. The objects are consistent with cultural items typically found in the context with burials in eastern Washington. Early and late published ethnographic documentation indicates that this was the aboriginal territory of the Western Columbia River Sahaptins, Wasco, Wishram, Yakima, Walla Walla, Umatilla, Tenino, and Skin (Daugherty 1973, Hale 1841, Hunn and French 1998, Stern 1998, French and French 1998, Mooney 1896, Murdock 1938, Ray 1936 and 1974, Spier 1936) whose descendants are members of the Confederated Tribes and Bands of the Yakama Nation, Washington; Confederated Tribes of the Umatilla Reservation, Oregon; and Confederated Tribes of the Warm Springs Reservation of Oregon. Information provided by the representatives the Confederated Tribes and Bands of the Yakama Nation, Washington; Confederated Tribes of the Colville Reservation, Washington; Confederated Tribes of the Umatilla Reservation, Oregon; Confederated Tribes of the Warm Springs Reservation of Oregon; Nez Perce Tribe of Idaho; and Wanapum Band, a non-federally recognized Indian group, during consultation indicates the aboriginal ancestors occupying the area where all the above mentioned sites are located were highly mobile and traveled the landscape for gathering resources as well as trade, and are all part of the more broadly defined Plateau cultural community.

In 1955, 10 cultural items were removed from an island in the Snake River in Walla Walla County, WA, by Mrs. Stanley Randolph and donated to the Burke Museum in 1955 (Burke Accn. #4010). No human remains are present. The 10 unassociated funerary objects are 1 lot of trade beads, 2 pieces of hammered copper ornaments, 6 copper tube beads, and 1 piece of iron.

In 1958, 97 cultural items were removed from the “Palouse Site,” also designated as Site #9, on the east side of the Palouse River where it empties into the Snake River in Whitman County, WA. The cultural items were donated to the Burke Museum in 1989 (Burke Accn. #1989-57). The 97 unassociated funerary objects are 53 olivella shell beads, 8 dentalium shell beads, 6 shell beads, 2 teeth, 11 copper beads, 2 mauls, 1 lot of organic matter, 4 copper pendants, 2 copper pendant fragments, 2 pestles, 4 points, and 2 scrapers.

The burial pattern and cultural items are consistent with Native American plateau customs. The 1963 Indian Claims Commission decision indicates that this area was within the Palouse aboriginal territory. Early and late ethnographic documentation indicates that the present-day location of the Snake River is located within an overlapping aboriginal territory of the Cayuse, Palouse, Yakama, and Walla Walla (Daugherty 1973, Hale 1841, Mooney 1896, Ray 1936, Spier 1936, Sprague 1998, Stern 1998,) whose descendants are members of the Confederated Tribes and Bands of the Yakama Nation, Washington; Confederated Tribes of the Colville Reservation, Washington; Confederated Tribes of the Umatilla Reservation, Oregon; Confederated Tribes of the Warm Springs Reservation of Oregon; Nez Perce Tribe of Idaho; and Wanapum Band, a non-federally recognized Indian group.

Between 1955 and 1957, 21 cultural items were removed from the B. Stewart Site in Wasco County, OR, by a University of Washington Field Party led by Mr. Robert B. Butler. The cultural items were received by the Burke Museum in 1957 and accessioned in 1966 (Burke Accn. #1966-100). Human remains were not removed from the site. The 21 unassociated funerary objects are 1 adze blade, 2 bone clubs, 3 copper fragments, 1 ground stone tool, 2 mortars, 6 pipes, 2 point fragments, 1 point, and 3 pieces of worked bone.

The site included a series of cremations overlooking Celilo Falls. Museum documentation indicates that the cultural items were removed from graves. The objects are consistent with cultural items typically found along the Columbia River in Eastern Washington and Oregon.

The 1963 Indian Claims Commission decision indicates that this area was within the aboriginal territory of the Warm Springs. Information provided by the representatives the Confederated Tribes and Bands of the Yakama Nation, Washington; Confederated Tribes of the Colville Reservation, Washington; Confederated Tribes of the Umatilla Reservation, Oregon; Confederated Tribes of the Warm Springs Reservation of Oregon; Nez Perce Tribe of Idaho; and Wanapum Band, a non-federally recognized Indian group, during consultation indicates the aboriginal ancestors occupying the area where all the above mentioned sites are located were highly mobile and traveled the landscape for gathering resources as well as trade, and are all part of the more broadly defined Plateau cultural community.

The descendants of these Plateau communities of Eastern Washington and Eastern Oregon are now widely dispersed and are members of the Confederated Tribes and Bands of the Yakama Nation, Washington; Confederated Tribes of the Colville Reservation, Washington; Confederated Tribes of the Umatilla Reservation, Oregon; Confederated Tribes of the Warm Springs Reservation of Oregon; Nez Perce Tribe of Idaho; and Wanapum Band, a non-federally recognized Indian group.

Officials of the Burke Museum have determined that, pursuant to 25 U.S.C. 3001 (3)(B), the 10,857 cultural items described above are reasonably believed to have been placed with or near individual human remains at the time of death or later as part of the death rite or ceremony and are believed, by a preponderance of the evidence, to have been removed from a specific burial site of a Native American individual. Officials of the Burke Museum also have determined that, pursuant to 25 U.S.C. 3001 (2), there is a relationship of shared group identity that can be reasonably traced between the unassociated funerary objects and the Confederated Tribes and Bands of the Yakama Nation, Washington; Confederated Tribes of the Colville Reservation, Washington; Confederated Tribes of the Umatilla Reservation, Oregon; Confederated Tribes of the Warm Springs Reservation of Oregon; and Nez Perce Tribe of Idaho. Furthermore, officials of the Burke Museum have determined that there is a cultural relationship between the unassociated funerary objects and the Wanapum Band, a non-federally recognized Indian group.

Representatives of any other Indian tribe that believes itself to be culturally affiliated with the unassociated funerary objects should contact Dr. Peter Lape, Burke Museum, University of Washington, Box 353010, Seattle, WA 98195-3010, telephone (206) 685-2282, before June 25, 2007. Repatriation of the unassociated funerary objects to the Confederated Tribes of the Colville Reservation, Washington; Confederated Tribes of the Umatilla Reservation, Oregon; Confederated Tribes of the Warm Springs Reservation of Oregon; Nez Perce Tribe of Idaho; and Confederated Tribes and Bands of the Yakama Nation, Washington, for themselves and on behalf of the Wanapum Band, a non-federally recognized Indian group, may proceed after that date if no additional claimants come forward. The Confederated Tribes of the Colville Reservation, Washington; Confederated Tribes of the Umatilla Reservation, Oregon; Confederated Tribes of the Warm Springs Reservation of Oregon; Nez Perce Tribe of Idaho; and Confederated Tribes and Bands of the Yakama Nation, Washington; and Wanapum Band, non-federally recognized Indian group, are claiming jointly all cultural items from the Columbia River area in eastern Washington and Oregon.

The Burke Museum is responsible for notifying the Confederated Tribes and Bands of the Yakama Nation, Washington; Confederated Tribes of the Colville Reservation, Washington; Confederated Tribes of the Umatilla Reservation, Oregon; Confederated Tribes of the Warm Springs Reservation of Oregon; Nez Perce Tribe of Idaho; and Wanapum Band, a non-federally recognized Indian group that this notice has been published.

Dated: May 14, 2007
Sherry Hutt,
Manager, National NAGPRA Program.

[FR Doc. E7-9970 Filed 5-23-07; 8:45 am]

BILLING CODE 4312-50-S